DEPARTMENT OF ENERGY

Federal Energy Regulatory Commission

[Docket No. EL02-117-000]

City of Burbank, CA, Complainant v. Calpine Energy Services, L.P., Duke Energy Trading and Marketing, L.L.C., El Paso Merchant Energy, L.P., Respondents.; Notice of Complaint

August 14, 2002.

Take notice that on August 12, 2002, the City of Burbank, California (Burbank) tendered for filing Federal Energy Regulatory Commission (Commission) a “Complaint And Request For Investigation, Contract Modification, And Refunds, Request To Hold Further Procedures In Abeyance, And Request For Privileged Treatment And Proposed Protective Agreement” against Calpine Energy Services, L.P., Duke Energy Trading and Marketing, L.L.C., and El Paso Merchant Energy, L.P. (collectively, Respondents). Burbank's Complaint alleges that prices under contracts for purchases that it entered with Respondents during a period when the California market was dysfunctional are unjust and unreasonable and not in the public interest. Burbank requests the Commission to hold further procedures regarding the Complaint in abeyance. Burbank has requested confidential treatment for certain information.

Copies of the Complaint were served, simultaneous with filing with the Commission, on Respondents, and the Public Utilities Commission of the State of California.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before September 3, 2002. This filing is available for review at the Commission in the Public Reference Room or may be viewed on the Commission's website at http://www.ferc.gov using the “FERRIS” link. Enter the docket number excluding the last three digits in the docket number field to access the document. For Assistance, call (202) 502-8222 or for TTY, (202) 208-1659. The answer to the complaint, comments, protests and interventions may be filed electronically via the Internet in lieu of paper; see 18 CFR 385.2001(a)(1)(iii) and the instructions on the Commission's web site under the “e-Filing” link. The Commission strongly encourages electronic filings.

Linwood A. Watson, Jr.
Deputy Secretary.

[FR Doc. 02-21148 Filed 8-19-02; 8:45 am]

BILLING CODE 6717-01-P